Title 3—

The President

Proclamation 9343 of October 5, 2015

German-American Day, 2015

By the President of the United States of America

A Proclamation

Throughout our history, German Americans have woven distinct threads into the fabric of our country. In extraordinary ways—by crossing the Atlantic, planting roots in communities across our country, and spurring shared advances—German Americans have proven our Nation's diversity makes our society ever stronger. On German-American Day, we celebrate the immeasurable ways their talents and ideas have helped shape the progress of our time.

Since their earliest days on America's shores, the German people have striven to realize the fundamental promise that everyone deserves the chance to make of their lives what they will. Building up our society as architects and artists, inventors and engineers, they continue to push boundaries and bolster dreams in their communities and across our country. From their service in our Armed Forces to our classrooms, we see the strength and passion of German heritage integrated into the identity of our American family.

The stories of German-American men and women also remind us of the important partnership between our two nations. In the 70 years since the end of World War II and the quarter century since the fall of the Berlin Wall, Americans and Germans have inspired each other and worked to address key challenges that affect the world we share. From combatting violent extremism and climate change to expanding economic and educational opportunity for women and girls, our common principles bind us together as inseparable allies. As we commemorate the strong friendship between our peoples, may we never forget our unique histories, and may we continue working together to reach for a more peaceful and prosperous future.

NOW, THEREFORE, I, BARACK OBAMA, President of the United States of America, by virtue of the authority vested in me by the Constitution and the laws of the United States, do hereby proclaim October 6, 2015, as German-American Day. I encourage all Americans to learn more about the history of German Americans and reflect on the many contributions they have made to our Nation.

IN WITNESS WHEREOF, I have hereunto set my hand this fifth day of October, in the year of our Lord two thousand fifteen, and of the Independence of the United States of America the two hundred and fortieth.

[FR Doc. 2015-25934

Filed 10-7-15; 11:15 am]

Billing code 3295-F6-P